ENVIRONMENTAL PROTECTION AGENCY

[ER-FRL-6684-7]

Environmental Impacts Statements; Notice of Availability

Responsible Agency: Office of Federal Activities, General Information (202) 564-7167 or http://www.epa.gov/compliance/nepa/.

Weekly receipt of Environmental Impact Statements

Filed 02/26/2007 through 03/02/2007 pursuant to 40 CFR 1506.9.

EIS No. 20070072, Second Draft Supplement, FHW, NC, NC 12 Replacement of Herbert C. Bonner Bridge (Bridge No. 11 ) Revisions and Additions, over Oregon Inlet Construction, Funding, U.S. Coast Guard Permit, Special-Use-Permit, Right-of-Way Permit, U.S. Army COE Section 10 and 404 Permit, Dare County, NC , Comment Period Ends: 04/23/2007, Contact: John F. Sullivan 919-856-4346.

EIS No. 20070073, Draft EIS, IBR, CO, Colorado River Interim Guidelines for Lower Basin Shortages and and Coordinated Operations for Lake Powell and Lake Mead, Implementation, Colorado River, CO, Comment Period Ends: 04/30/2007, Contact: Nan Yoder 702-293-8500.

EIS No. 20070074, Final EIS, SFW, CA, East Contra Costa County Habitat Conservation Plan and Natural Community Conservation Plan, Implementation, Incidental Take Permit, Cities of Brentwood, Clayton, Oakley and Pittsburg, Contra Costa County, CA, Wait Period Ends: 04/09/2007, Contact: Lori Rinek 916-444-6600.

EIS No. 20070075, Draft Supplement, APH, 00, Importation of Solid Wood Packing Material, To Reevaluate and Refine Estimates of Methyl Bromide Usage in the Treatment, Implementation, United States, Comment Period Ends: 04/23/2007, Contact: David A. Bergston 301-734-6103.

EIS No. 20070076, Final EIS, AFS, WI, Boulder Project, Timber Harvesting, Vegetation and Road Management, U.S. Army COE Section 404 Permit, Chequamegon-Nicolet National Forest, Lakewood-Laona Ranger District, Oconto and Langlade Counties, WI, Wait Period Ends: 04/09/2007, Contact: Paul Sweeney 715-276-6333.

EIS No. 20070077, Draft EIS, AFS, SD, Mitchell Project Area, To Implement Multiple Resource Management Actions, Mystic Ranger District, Black Hills National Forest, Pennington County, SD, Comment Period Ends: 04/23/2007, Contact: Roberts. J. Thompson 605-343-1567.

EIS No. 20070078, Draft EIS, NPS, NY, Sagamore Hill National Historic Site, General Management Plan, Implementation, Oyster Bay, Nassau County, NY, Comment Period Ends: 05/08/2007, Contact: Greg A. Marshall 516-922-4452.

EIS No. 20070079, Draft Supplement, AFS, WA,. School Fire Salvage Recovery Project, To Clarify Definitions of Live and Dead Trees, Implementation, Pomeroy Ranger District, Umatilla National Forest, Columbia and Garfield Counties, WA, Comment Period Ends: 04/23/2007, Contact: Dean R. Millett 509-843-4644.

EIS No. 20070080, Draft EIS, NIG, CA, Graton Rancheria Casino and Hotel Project, Transfer of Land into Trust, Implementation, Federated Indians of Graton Rancheria (Tribe), Sonoma County, CA, Comment Period Ends: 04/23/2007, Contact: Brad Meharry 202-632-7003.

EIS No. 20070081, Final EIS, JUS, TX, Laredo Detention Facility, Proposed Contractor-Owned/Contractor-Operated Detention Facility, Implementation, Webb County, TX, Wait Period Ends: 04/09/2007, Contact: Scott P. Stermer 202-353-4601.

EIS No. 20070082, Final EIS, GSA, VA, Federal Bureau of Investigation (FBI) Central Records Complex, Alternative 4—Sempeles Site, Winchester, Frederick County, VA, Wait Period Ends: 04/09/2007, Contact: Katrina Scarpato 215-446-4651.

EIS No. 20070083, Draft EIS, SFW/COE, CA, PROGRAMMATIC—South Bay Salt Pond Restoration Project, Restored Tidal Marsh, Managed Ponds, Flood Control Measures and Public Access Features, Don Edward San Francisco Bay National Wildlife Refuge, Alameda, Santa Clara and San Mateo Counties, CA, Comment Period Ends: 04/23/2007, Contact: Clyde Morris 510-792-0222 (SFW); and Yvonne LeTellier, 415-503-6744 (COE).

EIS No. 20070084, Draft EIS, BPA, WA, Port Angeles—Juan de Fuca Transmission Project, Construct a 550-Megawatt Direct Current Cable from Victoria, British Columbia, across the Strait of Juan de Fuca to Port Angeles, Presidential Permit, Clallam County, WA, Comment Period Ends: 04/24/2007, Contact: Stacy Mason 503-230-5455.

EIS No. 20070085, Draft EIS, USN, GU, Kilo Wharf Extension (MILCON P-52), To Provide Adequate Berthing Facilities for Multi-Purpose Dry Cargo/Ammunition Ship (the T-AKE), Apra Harbor Naval Complex, Mariana Island, GU, Comment Period Ends: 04/23/2007, Contact: Nora Macariola 808-472-1402.

EIS No. 20070086, Final EIS, USA, VA, Fort Lee, Virginia and Fort A. P. Hill, Virginia Project, Implementation of Base Closure and Realignment (BRAC) Recommendations and Other Army Actions, Prince George County, Petersburg, Virginia Hopewell, Virginia; Caroline County, Essex County, VA, Wait Period Ends: 04/09/2007, Contact: Karen Wilson 703-602-2861.

EIS No. 20070087, Final EIS, FTA, FL, Miami North Corridor Project, Build Alternative is Selected, Transit Improvement between NW 62 Street at Dr. Martin Luther King Jr. Station and NW 215th Street at the Dade/Broward Counties Line, Funding, Dade County, FL, Wait Period Ends: 04/09/2007, Contact: James Garland 404-562-3512.

Dated: March 6, 2007.
Robert W. Hargrove,
Director, NEPA Compliance Division, Office of Federal Activities.

[FR Doc. E7-4247 Filed 3-8-07; 8:45 am]

BILLING CODE 6560-50-P